DEPARTMENT OF ENERGY

Federal Energy Regulatory Commission

[Docket No. CP14-533-000; Docket No. CP14-534-000]

Duke Energy Kentucky, Inc.; Duke Energy Ohio, Inc.; Notice of Applications for Certificate of Public Convenience and Necessity

Take notice that on August 13, 2014 Duke Energy Kentucky, Inc. (DEK) and Duke Energy Ohio, Inc. (DOE), 139 E. Fourth Street, Cincinnati, Ohio 45202, filed in the above referenced dockets two complimentary applications pursuant to sections 7(b) and 7(f) of the Natural Gas Act (NGA). DEK requests authorization to abandon by sale to DEO, a segment of existing natural gas pipeline that extends from Kenton County, Kentucky to Hamilton County, Ohio. DEO is concurrently seeking a determination of a service area within which DEO may enlarge and extend its distribution facilities, without further Commission authorization, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Chuck Whitlock, President, Midwest Commercial Generation and Vice President, Gas Operations, at (513) 287-2534 or chuck.whitlock@duke-energy.com, Duke Energy Corporation, 139 East Fourth Street, Cincinnati, OH 45202.

Specifically, the pipeline segment to be conveyed to DEO (AM-1 River Crossing) originates at a pipeline valve in Kenton County, Kentucky, about 400 feet south of the Ohio River, and extends northward about 0.4 miles, under the river, to an interconnection with distribution facilities of DEO at a pipeline valve in Hamilton County, Ohio. It is part of DEK's Line AM-1 natural gas pipeline. DEK states that the AM-1 River Crossing is used for the sole purpose of delivering gas to DEO to serve its own retail customers and retail customer choice load in Ohio. DEK also states that its entire retail load that is served from Line AM-1 is located upstream of the proposed point of transfer, so no DEK customer will be affected by the transfer. DEO's request includes (1) a determination that DEO's service area may be extended to include AM-1 River Crossing, the associated right-of-way and sufficient adjacent right-of-way to accommodate future replacement of the existing pipeline segment; (2) a finding that DEO continues to qualify as a local distribution company (LDC) for purposes of section 311 of the Natural Gas Policy Act of 1978 (NGPA); (3) a waiver of the regulatory requirements ordinarily applicable to natural gas companies under the NGA and NGPA; (4) and such further relief as the Commission may deem appropriate. DEO states that inclusion of the AM-1 River Crossing and adjacent right-of-way in DEO's service area will allow DEO to replace the line and thereby ensure continued reliable delivery of gas via the line to DEO's distribution system.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 7 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commentors will be placed on the Commission's environmental mailing list, will receive copies of the environmental documents, and will be notified of meetings associated with the Commission's environmental review process. Environmental commentors will not be required to serve copies of filed documents on all other parties. However, the non-party commentors will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE., Washington, DC 20426.

Comment Date: 5:00 p.m. Eastern Time on September 12, 2014.

Dated: August 22, 2014.
Kimberly D. Bose,
Secretary.

[FR Doc. 2014-20755 Filed 8-29-14; 8:45 am]

BILLING CODE 6717-01-P